DEPARTMENT OF COMMERCE

National Oceanic and Atmospheric Administration

[I.D. 021704B]

Groundfish Fisheries of the Bering Sea and Aleutian Islands (BSAI) Area and the Gulf of Alaska, King and Tanner Crab Fisheries in the BSAI, Scallop and Salmon Fisheries off the Coast of Alaska; Correction

AGENCY: National Marine Fisheries Service (NMFS), National Oceanic and Atmospheric Administration (NOAA), Commerce; Correction.

ACTION: Correction to a notice.

SUMMARY: This document corrects a March 5, 2004, notice of public meetings for the Draft Environmental Impact Statement (DEIS) for Essential Fish Habitat (EFH) Identification and Conservation in Alaska. This action is necessary to correct an error in the meeting time for the Seattle, Washington, meeting.

DATES: Effective March 12, 2004.

FOR FURTHER INFORMATION CONTACT: Mary B. Goode, (907) 586-7636.

SUPPLEMENTARY INFORMATION: NMFS published a notice announcing public meetings during the DEIS's comment period on March 5, 2004 (69 FR 190428), FR Doc. 04-5019. Meetings will be held in three locations: Seattle, WA, Anchorage, AK, and Juneau, AK. The notice erroneously announced times for the Seattle meeting as Alaska local time, rather than Pacific local time. This action corrects this error.

Correction

Accordingly, in Column 3, under the heading “Meeting Dates, Times, and Locations,” in line 4, remove the following text “Alaska local time (ALT)” and replace it with the following: “Pacific local time”, and in line 9, remove the following text “ALT” and replace it with the following: “Alaska local time (ALT)”.

Authority: 16 U.S.C. 1801 et seq.

Dated: March 8, 2004.
Bruce C. Morehead,
Acting Director, Office of Sustainable Fisheries, National Marine Fisheries Service.

[FR Doc. 04-5700 Filed 3-11-04; 8:45 am]

BILLING CODE 3510-22-S